DEPARTMENT OF HEALTH AND HUMAN SERVICES

Decision to Evaluate a Petition to Designate a Class of Employees from the Sandia National Laboratory-Livermore in Livermore, California To Be Included in the Special Exposure Cohort

AGENCY: National Institute for Occupational Safety and Health (NIOSH), Centers for Disease Control and Prevention, Department of Health and Human Services.

ACTION: Notice.

SUMMARY: NIOSH gives notice as required by Department of Health and Human Services regulations of a decision to evaluate a petition to designate a class of employees from the Sandia National Laboratory-Livermore in Livermore, California to be included in the Special Exposure Cohort under the Energy Employees Occupational Illness Compensation Program Act of 2000.

FOR FURTHER INFORMATION CONTACT: Stuart L. Hinnefeld, Director, Division of Compensation Analysis and Support, National Institute for Occupational Safety and Health, 4676 Columbia Parkway, MS C-46, Cincinnati, OH 45226, Telephone 877-222-7570. Information requests can also be submitted by email to DCAS@CDC.GOV.

SUPPLEMENTARY INFORMATION: The initial proposed definition for the class being evaluated, subject to revision as warranted by the evaluation, is as follows:

Facility: Sandia National Laboratory-Livermore

Location: Livermore, California.

Job Titles and/or Job Duties: All employees of the Department of Energy, its predecessor agencies, and its contractors and subcontractors who worked in any area.

Period of Employment: January 1, 1956 through December 31, 1994.

Authority: 42 CFR 83.12(e).

John Howard,
Director, National Institute for Occupational Safety and Health.

[FR Doc. 2013-21991 Filed 9-12-13; 8:45 am]

BILLING CODE 4163-19-P